DEPARTMENT OF COMMERCE

International Trade Administration

A-351-828

Notice of Rescission of Antidumping Duty Administrative Review: Certain Hot-Rolled Flat-Rolled Carbon Quality Steel Flat Products from Brazil

AGENCY: Import Administration, International Trade Administration, Department of Commerce.

SUMMARY: In response to a request from a domestic interested party, Nucor Corporation (Nucor), the Department of Commerce (the Department) initiated an administrative review of the antidumping duty order on certain hot-rolled carbon steel flat products (hot-rolled steel) from Brazil. This review covers two manufacturer/exporters of the subject merchandise, Companhia Siderurgica Nacional (CSN) and Companhia Siderurgica de Tubarao (CST). The Department is now rescinding this review based on record evidence indicating that the respondents had no entries of subject merchandise during the period of review (POR). The POR is March 1, 2005, through February 28, 2006.

EFFECTIVE DATE: July 13, 2006.

FOR FURTHER INFORMATION CONTACT: Helen Kramer or David Kurt Kraus, AD/CVD Operations, Office 7, Import Administration, International Trade Administration, U.S. Department of Commerce, 14th Street and Constitution Avenue, NW, Washington, DC 20230; telephone (202) 482 0405 or (202) 482-7871, respectively.

SUPPLEMENTARY INFORMATION:

Background

On March 12, 2002, the Department published the antidumping duty order on hot-rolled steel from Brazil. See Notice of Antidumping Duty Order and of Sales at Less Than Fair Value: Certain Hot-Rolled Flat-Rolled Carbon Quality Steel Products from Brazil, 67 FR 11093 (March 12, 2002). On March 2, 2006, the Department published in the Federal Register a notice of opportunity to request administrative reviews. See Antidumping and Countervailing Duty Order, Finding, or Suspended Investigation; Opportunity to Request Administrative Review, 71 FR 10642 (March 2, 2006). On March 31, 2006, Nucor Corporation requested that the Department conduct an administrative review of sales of hot-rolled steel produced and exported by CSN and CST.

On April 28, 2006, the Department published a notice of initiation of this administrative review. See Initiation of Antidumping and Countervailing Duty Administrative Reviews and Requests for Revocation in Part, 71 FR 25145 (April 28, 2006). On May 4 and 17, 2006, respectively, CSN and CST submitted no-shipment certification letters to the Department indicating that they had no U.S. sales or entries of hot-rolled steel during the POR and requesting rescission of the administrative review.

On June 5, 2006, the Department solicited comments from Wiley Rein & Fielding LLP, counsel for Nucor Corporation, stating the Department's intention to rescind the review with respect to CSN and CST. The Department requested that any comments regarding the intention to rescind be submitted by June 12, 2006. We received no comments.

Period of Review

The POR is March 1, 2005, through February 28, 2006.

Scope of the Order

For purposes of this order, the products covered are certain hot-rolled flat-rolled carbon-quality steel products, meeting the physical parameters described below, regardless of application.

The hot-rolled flat-rolled carbon-quality steel products subject to this review are of a rectangular shape, of a width of 0.5 inch of greater, neither clad, plated, nor coated with metal and whether or not painted, varnished, or coated with plastics of other non-metallic substances, in coils (whether or not in successively superimposed layers) regardless of thickness, and in straight lengths, of a thickness less than 4.75 mm and of a width measuring at least 10 times the thickness. Specifically included in this scope are vacuum degassed, fully stabilized (IF) steels, high strength low alloy (HSLA) steels, and the substrate for motor lamination steels. Steel products to be included in the scope of this agreement, regardless of HTSUS definitions, are products in which: (1) iron predominates, by weight, over each of the other contained elements; (2) the carbon content is 2 percent of less, by weight; and (3) none of the elements listed below exceeds certain specified quantities.

The merchandise subject to the order is currently classifiable under subheadings 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, and 7212.50.00.00 of the Harmonized Tariff Schedule of the United States (HTSUS). Certain hot-rolled flat-rolled carbon-quality steel covered by this agreement, including vacuum degassed and fully stabilized, high strength low alloy, and the substrate for motor lamination steel may also enter under tariff numbers 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Although the HTSUS subheadings are provided for convenience and CBP purposes, the written description of the scope of the order is dispositive.

Rescission of Review

On May 4 and May 17, 2006, respectively, both CSN and CST informed the Department that they did not ship hot-rolled steel to the United States during the POR, and requested that we rescind the administrative review. On June 2, 2006, the Department conducted an internal customs data query using the Customs and Border Protection's (CBP) Automated Commercial System (ACS). On June 5, 2006, the Department invited Wiley Rein & Fielding LLP, counsel for Nucor, to submit comments regarding the Department's intention to rescind the review with regard to CSN and CST. Furthermore, we sent a no-shipments inquiry to CBP on June 16, 2006.

The Department did not receive comments from Wiley Rein & Fielding LLP regarding our intention to rescind the review with regard to CSN and CST. Additionally, the Department found no entries from either CSN or CST based on our internal customs query and our no-shipments inquiry sent to CBP. Accordingly, the Department has found no evidence that CSN or CST had any entries of hot-rolled steel during the POR. Therefore, we are rescinding this administrative review.

Pursuant to 19 CFR 351.213(d)(3), the Department may rescind an administrative review, in whole or with respect to a particular exporter or producer, if the Secretary concludes that, during the period covered by the review, there were no entries, exports, or sales of the subject merchandise. Because the evidence on the record shows that there were no entries of hot-rolled steel made by CSN or CST during the POR, the Department is rescinding this review in accordance with 19 CFR 351.213(d)(3). The Department will issue appropriate assessment instructions to CBP within 15 days of publication of this notice.

We are issuing and publishing this notice in accordance with sections 751(a)(1) of the Tariff Act of 1930, as amended, and 19 CFR 351.213(d)(4).

Dated: July 6, 2006.
Stephen J. Claeys,
Deputy Assistant Secretary for Import Administration.

[FR Doc. E6-11058 Filed 7-12-06; 8:45 am]

BILLING CODE 3510-DS-S